DEPARTMENT OF TRANSPORTATION

Maritime Administration

U.S. Maritime Transportation System National Advisory Committee; Notice of Public Meeting

AGENCY: Maritime Administration, Department of Transportation.

ACTION: Notice.

SUMMARY: The Maritime Administration (MARAD) announces a public meeting of the U.S. Maritime Transportation System National Advisory Committee (MTSNAC) to discuss advice and recommendations for the U.S. Department of Transportation on issues related to the marine transportation system.

DATES: The meeting will be held on Wednesday, March 22, 2023, from 9 a.m. to 4:30 p.m. and Thursday, March 23, 2023, from 9 a.m. to 4:30 p.m. ET.

Requests to attend the meeting virtually must be received no later than 5:00 p.m. ET on the prior week Monday, March 13, 2023, in order to facilitate entry. Requests for accommodations due to a disability must be received by the day prior to the meeting Monday, March 21, 2023. The written copy of the remarks must be provided to DOT no later than by the prior week Monday, March 13, 2023. Requests to submit written materials to be reviewed during the meeting must also be received by the prior week Monday, March 13, 2023.

ADDRESSES: The meeting will be held virtually. Any committee related request should be sent to the person listed in the FOR FURTHER INFORMATION CONTACT section.

FOR FURTHER INFORMATION CONTACT: Chad Dorsey, Designated Federal Officer, at MTSNAC@dot.gov or at (202) 997-6205. Maritime Transportation System National Advisory Committee, 1200 New Jersey Avenue SE, W21-307, Washington, DC 20590. Please visit the MTSNAC website at https://www.maritime.dot.gov/outreach/maritime-transportation-system-mts/maritime-transportation-system-national-advisory-0.

SUPPLEMENTARY INFORMATION:

I. Background

The MTSNAC is a Federal advisory committee that advises the U.S. Secretary of Transportation through the Maritime Administrator on issues related to the marine transportation system. The MTSNAC was originally established in 1999 and mandated in 2007 by the Energy Independence and Security Act of 2007 (Pub. L. 110-140). The MTSNAC is codified at 46 U.S.C. 50402 and operates in accordance with the provisions of the Federal Advisory Committee Act.

II. Agenda

The agenda will include: (1) welcome, opening remarks, and introductions; (2) administrative items; (3) subcommittee break-out sessions; (4) updates to the Committee on the subcommittee work; (5) public comments; and (6) discussions relevant to formulate recommendations for improving the maritime transportation strategy. A final agenda will be posted on the MTSNAC internet website at https://www.maritime.dot.gov/outreach/maritime-transportation-system-mts/maritime-transportation-system-national-advisory-0 at least one week in advance of the meeting.

III. Public Participation

The meeting will be open to the public. Members of the public who wish to attend virtually must RSVP to the person listed in the FOR FURTHER INFORMATION CONTACT section with your name and affiliation.

Services for individuals with disabilities. The public meeting is accessible to people with disabilities. The U.S. Department of Transportation is committed to providing equal access to this meeting for all participants. If you need alternative formats or services because of a disability, such as sign language, interpretation, or other ancillary aids, please contact the person listed in the FOR FURTHER INFORMATION CONTACT section.

Public comments. A public comment period will commence at approximately 12 p.m. ET on March 22, 2023, and again on March 23, 2023, at the same time. To provide time for as many people to speak as possible, speaking time for each individual will be limited to three minutes. Requests to speak during the public comment period of the meeting must be submitted in writing. Members of the public who would like to speak are asked to contact the person listed in the FOR FURTHER INFORMATION CONTACT section. Commenters will be placed on the agenda in the order in which notifications are received. If time allows, additional comments will be permitted. Copies of oral comments must be submitted in writing at the meeting or preferably emailed to the person listed in the FOR FURTHER INFORMATION CONTACT section. Additional written comments are welcome and must be filed as indicated below.

Written comments. Persons who wish to submit written comments for consideration by the Committee must send them to the person listed in the FOR FURTHER INFORMATION CONTACT section.

(Authority: 49 CFR part 1.93(a); 5 U.S.C. 552b; 41 CFR parts 102-3; 5 U.S.C. app. Sections 1-16)

By Order of the Maritime Administrator.
T. Mitchell Hudson, Jr.,
Secretary, Maritime Administration.

[FR Doc. 2023-03939 Filed 2-24-23; 8:45 am]

BILLING CODE 4910-81-P